DEPARTMENT OF TRANSPORTATION

Federal Aviation Administration

14 CFR Part 71

[Docket No. FAA-2007-29375; Airspace Docket No. 07-AEA-06]

Amendment of Class E Airspace; State College, PA

AGENCY: Federal Aviation Administration (FAA), DOT.

ACTION: Direct final rule; correction, confirmation of effective date.

SUMMARY: The Federal Aviation Administration published in the Federal Register of October 30, 2007, (72 FR 61293-61294), a document amending Class E airspace at State College, PA. This action technically corrects the geographical coordinates of the University Park Airport, adds the coordinates for the University Park Airport, adds the coordinates for the Instrument Landing System's (ILS) Localizer (LOC) and confirms the effective date of the direct final rule that amends Class E airspace to support an Instrument Approach Procedure serving the Centre Community Hospital (PS57), State College, PA.

DATES: Effective 0901 UTC, December 20, 2007. The Director of the Federal Register approves this incorporation by reference action under Title 1, Code of Federal Regulations, part 51, subject to the annual revision of FAA Order 7400.9 and publication of conforming amendments.

FOR FURTHER INFORMATION CONTACT: Daryl Daniels, Airspace Specialist, System Support, AJO2-E2B.12, FAA Eastern Service Center, 1701 Columbia Ave., College Park, GA 30337; telephone (404) 305-5581; fax (404) 305-5572.

SUPPLEMENTARY INFORMATION:

Confirmation of Effective Date

The FAA published this direct final rule with a request for comments in the Federal Register on October 30 (72 FR 61293) amending Class E airspace to support a Special Copter Point in Space Instrument Approach Procedure into the Centre Community Hospital (PS57). The FAA uses the direct final rulemaking procedure for a non controversial rule where the FAA believes that there will be no adverse public comment. This direct final rule advised the public that no adverse comments were anticipated, and that unless a written adverse comment, or a written notice of intent to submit such an adverse comment, were received within the comment period, the regulation would become effective on December 20, 2007. No adverse comments were received, and thus this notice confirms that this direct final rule will become effective on that date.

Correction to Final Rule

After publication, it was observed that a technical correction was required to correct the geographical coordinates for the University Park Airport and to add the University Park Airport's ILS LOC with its coordinates to the legal description. Therefore, in the Federal Register Docket No. FAA-2007-29375; Airspace Docket No. 07-AEA-06, published October 10, 2007, (72 FR 61293-61294) make the following correction. On page 61294, in the second column, immediately under “University Park Airport, State College, PA”, correct the geographical coordinates to read “(lat. 40°50′57″ N., Long. 77°50′55″ W.)” On the next line add the following:

University Park Airport ILS LOC

(Lat. 40°50′38″ N., long. 77°51′30″ W.)

For verification and to avoid confusion, the entire description should read as follows:

Paragraph 6005 Class E Airspace Areas Extending Upward from 700 feet or More Above the Surface of the Earth.

* * * * *

AEA PA E5 State College, PA [AMENDED]

University Park Airport, State College, PA

(Lat. 40°50′57″ N., long. 77°50′55″ W.)

University Park Airport ILS LOC

(Lat. 40°50′38″ N., long. 77°51′30″ W.)

PENUE NDB

(Lat. 40°54′37″ N., long. 77°44′30″ W.)

Centre Community Hospital, State College, PA

Point in Space Coordinates

(Lat. 40°49′14″ N., long. 77°49′44″ W.)

That airspace extending upward from 700 feet above the surface within a 6.5-mile radius of University Park Airport and within 3.1 miles each side of the University Park Airport ILS Runway 24 localizer course extending from the PENUE NDB to 9.2 miles northeast of the NDB; and that airspace within a 6-mile radius of the point in space (Lat. 40°49′14″ N., long. 77°49′44″ W.) serving the Centre Community Hospital.

* * * * *

Issued in College Park, GA, on December 17, 2007.
Mark D. Ward,
Manager, System Support Group, Eastern Service Center.

[FR Doc. 08-205 Filed 1-23-08; 8:45 am]

BILLING CODE 4910-13-M